NATIONAL CREDIT UNION ADMINISTRATION

Sunshine Act; Notice of Agency Meeting

Time and Date: 3 p.m., Wednesday, January 28, 2009.

Place: Board Room, 7th Floor, Room 7047, 1775 Duke Street, Alexandria, VA 22314-3428.

Status: Closed.

Matters To Be Considered: 1. Consideration of supervisory activities. Closed pursuant to Exemptions (4), (6), (8) and (9)(A)(ii).

FOR FURTHER INFORMATION CONTACT: Mary Rupp, Secretary of the Board, Telephone: 703-518-6304.

Mary Rupp,
Secretary of the Board.

[FR Doc. E9-2055 Filed 1-27-09; 4:15 p.m.]

BILLING CODE 7535-01-P